DEPARTMENT OF HOMELAND SECURITY

Federal Emergency Management Agency

[Docket ID: FEMA-2023-0033; OMB No. 1660-NW171]

Agency Information Collection Activities: Proposed Collection, Comment Request; Generic Clearance for FEMA's Collection of Feedback on Customer Satisfaction and Disaster Recovery

AGENCY: Federal Emergency Management Agency, Department of Homeland Security.

ACTION: 60-Day notice of new collection and request for comments.

SUMMARY: The Federal Emergency Management Agency (FEMA), as part of its continuing effort to reduce paperwork and respondent burden, invites the general public to take this opportunity to comment on a new information collection. In accordance with the requirements of the Paperwork Reduction Act of 1995, this notice seeks comments concerning a generic clearance to collect feedback from applicants on service delivery and their subsequent disaster recovery.

DATES: Comments must be submitted on or before February 9, 2024.

ADDRESSES: To avoid duplicate submissions to the docket, please submit comments at www.regulations.gov under Docket ID FEMA-2023-0033. Follow the instructions for submitting comments.

All submissions received must include the agency name and Docket ID. Regardless of the method used to submitting comments or material, all submissions will be posted, without change, to the Federal eRulemaking Portal at http://www.regulations.gov, and will include any personal information you provide. Therefore, submitting this information makes it public. You may wisht to read the Privacy and Security Notice that is available via a link on the homepage of www.regulations.gov.

FOR FURTHER INFORMATION CONTACT: Kristin Brooks, Statistician, FEMA's Recovery Reporting and Analytics Division, Customer Survey and Analysis Section, at (202) 826-6291 or Kristin.Brooks@fema.dhs.gov. You may contact the Information Management Division for copies of the proposed collection of information at email address: FEMA-Information-Collections-Management@fema.dhs.gov.

SUPPLEMENTARY INFORMATION: Executive Order 12862, “Setting Customer Service Standards,” requires that all Federal Agencies implement customer service standards and provide services to the public that matches or exceeds the best service available in the private sector. To accomplish this, Federal Agencies are required to survey customers to determine the kind and quality of services they want and their level of satisfaction with existing services.

The Government Performance and Results Act (GPRA) of 2010 also requires quarterly performance assessments of Government programs for purposes of assessing agency performance and improvement. One of the primary goals of GPRA is to improve Federal program effectiveness and public accountability by promoting a focus on results, service quality, and customer satisfaction.

The Foundations for Evidence-Based Policymaking Act of 2018 (“Evidence Act”) supports that data collection and analysis are important inputs to be used as evidence for prioritizing agency efforts to support civic engagement, delivering on mission, service, and stewardship objectives, and supporting decision-making.

FEMA seeks Office of Management and Budget (OMB) approval for a generic clearance to collect feedback from applicants on service delivery and their subsequent disaster recovery. The Agency has numerous touchpoints with applicants through several specialized customer-facing programs. The feedback collected from applicants may be quantitative or qualitative in nature depending on the population of interest, specific research questions, and the types of required analysis.

Collection of Information

Title: Generic Clearance for FEMA's Collection of Feedback on Customer Satisfaction and Disaster Recovery.

Type of Information Collection: New information collection.

OMB Number: 1660-NW171.

FEMA Forms: Not Applicable.

Abstract: Federal Agencies are required to survey their customers to determine the kind and quality of services they want and their level of satisfaction with those services. In order for the Agency to maintain customer service standards, there must be continuous assessment of service delivery throughout all phases of the customer journey. The Agency will collect, analyze, and interpret information gathered from this generic clearance to identify strengths and weaknesses with program delivery.

Affected Public: Individuals and Households; State, Local or Tribal Governments.

Estimated Number of Respondents: 389,770.

Estimated Number of Responses: 389,770.

Estimated Total Annual Burden Hours: 69,135.

Estimated Total Annual Respondent Cost: $3,015,890.

Estimated Respondents' Operation and Maintenance Costs: $0.

Estimated Respondents' Capital and Start-Up Costs: $0.

Estimated Total Annual Cost to the Federal Government: $2,769,361.

Comments

Comments may be submitted as indicated in the ADDRESSES caption above. Comments are solicited to (a) evaluate whether the proposed data collection is necessary for the proper performance of the Agency, including whether the information shall have practical utility; evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-27123 Filed 12-8-23; 8:45 am]

BILLING CODE 9111-24-P